ENVIRONMENTAL PROTECTION AGENCY

[FRL-9919-19-OGC]

Proposed Settlement Agreement, Clean Air Act Citizen Suit

AGENCY: Environmental Protection Agency.

ACTION: Notice of proposed settlement agreement; request for public comment.

SUMMARY: In accordance with section 113(g) of the Clean Air Act, as amended (“CAA” or the “Act”), notice is hereby given of a proposed settlement agreement to address a lawsuit filed by Environmental Integrity Project and Sierra Club in the United States District Court for the District of Columbia: Environmental Integrity Project v. McCarthy, Case No. 1:14-cv-01196 (D.D.C.). On July 16, 2014, Plaintiffs filed this complaint alleging that Gina McCarthy, in her official capacity as Administrator of the United States Environmental Protection Agency (“EPA”), failed to perform a non-discretionary duty to grant or deny within 60 days three petitions submitted by Environmental Integrity Project and Sierra Club requesting that EPA object to three CAA Title V permits issued by the Texas Commission on Environmental Quality to Luminant Generating Company to operate three power plants in Texas. The proposed settlement agreement would establish deadlines for EPA to take such action.

DATES: Written comments on the proposed settlement agreement must be received by December 15, 2014.

ADDRESSES: Submit your comments, identified by Docket ID number EPA-HQ-OGC-2014-0825, online at www.regulations.gov (EPA's preferred method); by email to oei.docket@epa.gov; by mail to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Karen Bianco, Air and Radiation Law Office (2344A), Office of General Counsel, U.S. Environmental Protection Agency, 1200 Pennsylvania Ave. NW., Washington, DC 20460; telephone: (202) 564-3298; fax number (202) 564-5603; email address: bianco.karen@epa.gov.

SUPPLEMENTARY INFORMATION:

I. Additional information about the proposed settlement agreement

This proposed settlement agreement would resolve a lawsuit filed by Environmental Integrity Project and Sierra Club seeking to compel the Administrator to take actions under CAA section 505(b)(2). Under the terms of the proposed settlement agreement, EPA would agree to sign a response addressing the following issues from Environmental Integrity Project and Sierra Club's Title V petitions by no later than January 23, 2015:

a. Petition for Objection to Texas Title V Permit No. 065 for the Operation of the Big Brown Steam Electric Station, Freestone County, Texas (Mar. 3, 2014) (attached as Exhibit 1 to the proposed settlement agreement)(“Big Brown Petition”), Issue V.A (pp. 7-14);

b. Petition for Objection to Texas Title V Permit No. 064 for the Operation of the Monticello Steam Electric Station, Titus County, Texas (Mar. 3, 2014) (attached as Exhibit 2 to the proposed settlement agreement) (“Monticello Petition”), Issue V.A (pp. 5-11); and

c. Petition for Objection to Texas Title V Permit No. 053 for the Operation of the Martin Lake Steam Electric Station in Rusk County, Texas (Feb. 24, 2014) (attached as Exhibit 3 to the proposed settlement agreement) (“Martin Lake Petition”), Issue V.A (pp. 5-9).

EPA would also agree to sign a response addressing the following issues from Environmental Integrity Project and Sierra Club's Title V petitions by no later than May 15, 2015:

a. Big Brown Petition, Issue V.D (pp. 17-20);

b. Monticello Petition, Issue V.B (pp. 11-14); and

c. Martin Lake Petition, Issue V.B (pp. 9-14).

EPA would have no obligation to respond to any issue in the title V petitions except those specifically identified. Further, under the terms of the proposed agreement, Plaintiffs would send a letter to the EPA Administrator within 60 days of the execution of the settlement agreement withdrawing the remaining portions of their Big Brown petition, namely:

a. Big Brown Petition, Issue V.B (pp. 14-15); and

b. Big Brown Petition, Issue V.C (pp. 15-17).

Under the terms of the proposed settlement agreement, EPA will expeditiously deliver notice of EPA's responses to the Office of the Federal Register for review and publication following signature of such response. In addition, the proposed settlement agreement outlines the procedure for the Plaintiffs to request costs of litigation, including attorney fees.

For a period of thirty (30) days following the date of publication of this notice, the Agency will accept written comments relating to the proposed settlement agreement from persons who are not named as parties or intervenors to the litigation in question. EPA or the Department of Justice may withdraw or withhold consent to the proposed settlement agreement if the comments disclose facts or considerations that indicate that such consent is inappropriate, improper, inadequate, or inconsistent with the requirements of the Act. Unless EPA or the Department of Justice determines that consent to this settlement agreement should be withdrawn, the terms of the settlement agreement will be affirmed.

II. Additional Information About Commenting on the Proposed Settlement Agreement

A. How can I get a copy of the proposed settlement agreement?

The official public docket for this action (identified by Docket ID No. EPA-HQ-OGC-2014-0825) contains a copy of the proposed settlement agreement. The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and access those documents in the public docket that are available electronically. Once in the system, key in the appropriate docket identification number then select “search”.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an email address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: November 4, 2014.
Lorie J. Schmidt,
Associate General Counsel.

[FR Doc. 2014-26866 Filed 11-12-14; 8:45 am]

BILLING CODE 6560-50-P